BROADCASTING BOARD OF GOVERNORS

Privacy Act of 1974: Notice of Systems of Records

AGENCY: Broadcasting Board of Governors (BBG).

ACTION: Notice of systems of records.

SUMMARY: This document is a compilation of the Broadcasting Board of Governors' Systems of Records maintained under the Privacy Act of 1974 (5 U.S.C. 552a), as amended. The Broadcasting Board of Governors (BBG) is a relatively new Agency and this is its first compilation of systems notices.

The compilation of the BBG's System of Records is made in compliance with the President's Memorandum of May 14, 1998 on Privacy and Personal Information in Federal Records. The President directed Federal agencies to review their information practices and ensure that they are conducted in accordance with privacy law and policy, because ensuring that the Federal government protects the privacy of personal information is a priority of the Administration. Office of Management and Budget (OMB) clearance is pending.

DATES: Effective date: This notice is effective 30 days from the date of publication. Persons wishing to comment on the systems or amended systems may do so through the above date at the address listed below.

ADDRESSES: For further information contact: Joseph Gatewood, Office of General Counsel, BBG, Suite 3349, 330 Independence Ave., SW., Washington DC 20237. Telephone (202) 260-4404. Any requests for information should make sure to identify the request as in reference to BBG's Privacy Act Systems of Records.

SUPPLEMENTARY INFORMATION: The BBG has never published a System of Records under the Privacy Act of 1974 (5 U.S.C. 552a), as amended, because it is a new agency that was created on October 1, 1999.

The Privacy Act created a statutory framework governing how the Federal government collects, maintains, uses and disseminates information about certain individuals.

Increased computerization of Federal records permits information to be used and analyzed in ways that could diminish individual privacy in the absence of additional safeguards. Therefore, we are assuring that the use of new information technologies sustains, and does not erode, the protections provided in the collection, use, retention and disclosure of personal information. The personal information will be handled in compliance with the requirements of the Privacy Act.

The Privacy Act provides that, upon request, an individual has the right to access any record maintained on that person in an agency's system of records. Under the Privacy Act, a “system of records” is a group of any records under the control of an agency from which information is retrieved by the name of the individual or by some identifying number, symbol, or other identifying particular assigned to the individual.

The Privacy Act further provides that an individual may make a request to gain access to his/her records or to any records pertaining to him that is contained within an agency's system of records, and that the individual may permit another individual to accompany him/her to review the record and have a copy made at the individual's expense. The agency may require that the individual requesting access to the records furnish a written statement authorizing discussion of the individual's record in the accompanying person's presence. The individual may request amendment of a record pertaining to him/her within the agency's system of records if the individual believes that the record is not accurate, relevant, timely or complete. In order for a request to be considered, the individual will clearly note the specific and precise portion of each record that the individual disagrees. The agency will then consider the individual's request, and determine whether it is appropriate to amend the record. If the agency deems amendment of the record appropriate, the agency will amend the record and so notify the individual. If the agency deems amendment of the record inappropriate, the agency will issue a refusal to the individual within 30 days of the individual's request that states the reason's for the refusal and the procedures established by the agency for the individual to request review of the agency's determination. Accompanying the agency's refusal will be the name(s) and addresses of the designated agency official(s) to whom the individual may request review of the agency's decision not to amend the record. Use of the Privacy Act as a mechanism to obtain access to files compiled in anticipation of a civil action or proceeding is forbidden.

The Privacy Act requires each agency to publish in the Federal Register a description denoting the type and character of each system of records that the agency maintains, and the routine uses that are contained in each system, as a means to notify individuals regarding the purposes for which personally identifiable information is disclosed and to assist the individual to more easily find such files within the Agency.

The BBG's publication of a system of records will readily enable individuals to determine if there are records maintained about the individual in the Agency's systems of records. Additionally, the publication of the Agency's systems notices will emphasize to Agency personnel the importance of protecting and regulating the collection, maintenance, use and dissemination of personal information.

OMB clearance is pending; the “Notice of Systems of Records” was submitted to OMB on July 7, 2004. The authority for maintaining these systems is the Privacy Act of 1974, 5 U.S.C. 552a, as amended.

Dated: July 27, 2004.
Carol Booker,
Acting General Counsel.

Table of Contents

Statement of General Routine Uses Applicable to All BBG Systems of Records

BBG-1—Broadcasting Board of Governors Staff Files

BBG-2—Office of the General Counsel Litigation Files

BBG-3—Office of the General Counsel (FOIA and Privacy Act Unit)

BBG-4—Office of Legal Counsel Ethics Files (Financial Disclosure Reports)

BBG-5—IBB Director's Executive Secretariat Files

BBG-6—M/A—Office of Administration (Travel Card Program)

BBG-7—M/A—Office of Administration (Employee Parking)

BBG-8—M/A—Office of Administration (Office Travel Records)

BBG-9—M/CON—Office of Contracts (Vendor Data-Base File Extracts)

BBG-10—M/CON—Office of Contracts (Acquisition and Procurement Workforce Information System)

BBG-11—M/CON—Office of Contracts (Suspension and Debarment Information System)

BBG-12—M/P—Office of Personnel

BBG-13—M/PT—Office of Personnel (Training and Development Division)

BBG-14—M/SEC—Office of Security (Personnel Security and Integrity Records)

BBG-15—OCB—Office of Cuba Broadcasting

BBG-16—OCR—Office of Civil Rights (Complaint Files)

BBG-17—OCR—Office of Civil Rights (General Files)

BBG-18—OCR—Office of Civil Rights (Minority Groups)

BBG-19—P/K—Office of External Affairs (Clearance Files for Speaking, Teaching and Writing, and Approval Files for Outside Employment)

Statement of General Routine Uses Applicable to All BBG System of Records Files

The following routine uses apply to and are incorporated by reference into each system of records (BBG-1 through BBG-19) set forth in this Notice:

1. Disclosure for Law Enforcement Purposes

Information may be disclosed to the appropriate Federal, State, local, tribal or foreign agency responsible for investigating, prosecuting, enforcing, reviewing or implementing a statute, rule, regulation, license or order, if the information is relevant to a potential violation or civil or criminal law or regulation within the apparent jurisdiction of the entity.

2. Disclosure Incident to Requesting Information

Information may be disclosed to any source from which additional information is requested ( to the extent necessary to identify the individual, inform the source of the purpose of the request, and to identify the type of information requested), when necessary to obtain information related to an agency decision concerning retention of the individual, or other personnel action (except hiring), retention or issuance of a security clearance, the letting of a contract, subcontract, cooperative agreement, grant, or other financial arrangement, or other benefit.

3. Disclosure to Requesting Agency

Information may be disclosed to a Federal, State, local, foreign, tribal or other public authority of the fact that this system of records contains information relevant to the retention of an employee, the retention or granting of a security clearance, the letting or retention of a contract, subcontract, cooperative agreement, grant or other financial arrangement, or the issuance or retention of a license or other benefit. The other agency or organization may then make a request supported by the written consent of the individual if it so chooses. No disclosure will be made unless the agency has a good faith belief that the information has been determined to be sufficiently reliable to support a referral to another office within the agency or to another Federal agency for criminal, civil, administrative, personnel, or regulatory action.

4. Disclosure to the Office of Management and Budget

Information may be disclosed to the Office of Management and Budget at any stage in the legislative coordination and clearance process in connection with legislation as set forth in OMB Circular No. A-19.

5. Disclosure to Congressional Offices

Information may be disclosed to a congressional office from the record of an individual in response to an inquiry from the congressional office made at the request of the individual.

6. Disclosure to the Department of Justice or for Litigation or Other Proceedings

Information may be disclosed to the Department of Justice, or in a proceeding before a court, adjudicative body, or other administrative body before which the Agency is authorized or required to appear. Such disclosures may occur in circumstances in which the Agency determines that litigation is likely to affect the Agency or any of its components, and the Agency is a party to the litigation or has an interest in such litigation, the Department of Justice or the Agency is deemed to be relevant and necessary to the litigation, and the use of the records is compatible with the purpose for which the records or information were collected. Information may also be disclosed in connection with litigation or settlement discussions regarding claims by or against the Agency, including public filing with a court, arbitrator, mediator, administrative body or other deciding or mediating official or body, as relevant and necessary to the discussions or proceedings, and except where court orders are otherwise required under section (b)(11) of the Privacy Act, 5 U.S.C. 552a(b)(11).

7. Disclosure for Hiring or Retention of Employee

Information may be disclosed from this system of records to a Federal, State or local agency in response to a request by the agency in connection with the hiring, retention or investigation of an employee, issuance of a security clearance, letting of a grant or contract, or the issuance of a license, grant or other benefit by the requesting agency, to the extent that such information is deemed relevant to the requesting agency's decision.

8. Disclosure to the Office of Personnel Management

Information may be disclosed to the Office of Personnel Management pursuant to the Agency's responsibility or authority for oversight or evaluation of Federal personnel management.

9. Disclosure to the National Archives or Federal Records Management Centers

Information may be disclosed to the National Archives or Federal Records Management Centers as necessary for purposes of records management or records management inspections.

10. Disclosure for Administrative Claims, Complaints, Appeals

Information may be disclosed to an authorized appeal grievance examiner, formal complaints examiner, equal opportunity employment investigator or official, arbitrator, mediator, opposing counsel or representative, or other person properly engaged in investigation, settlement, litigation or decision regarding an administrative grievance, complaint, claim, or appeal filed by an employee, but only to the extent that the information is relevant and necessary to the proceeding. Agencies that may obtain information under this routine use include, but are not limited to, the Office of Personnel Management, Office of Special Counsel, Merit Systems Protection Board, Federal Labor Relations Authority, Equal Employment Opportunity Commission, and Office of Government Ethics.

11. Disclosure to Contractors, Grantees and Others

Information may be disclosed to contractors, grantees, consultants, or volunteers performing or working on a contract, grant, cooperative agreement, job, service, or other activity for the Agency and who have a need to have access to the information in the performance of their duties or activities for the Agency. Where appropriate, the Agency may require such individuals or entities to comply with the Privacy Act, as provided in 5 U.S.C. 552a(m).

12. Disclosure to Federal Agencies for Purposes of Audit

A record from this system of records may be disclosed to authorized employees of a Federal agency for purposes of audit or program review. Examples of such agencies include, but are not limited to, Offices of Inspector General, General Accounting Office, Department of the Treasury, and Office of Management and Budget.

13. Disclosure to Department of State

A record from this system of records may be disclosed to the Department of State and its posts abroad for the purpose of transmission of information between organizational units of the Agency, or for purposes related to the responsibilities of the Department of State in conducting foreign policy or protecting United States citizens, such as the assignment of employees to positions abroad, the reporting of accidents abroad, evacuation of employees and dependents, and other purposes for which officers and employees of the Department of State have a need for the records in the performance of their official duties.

14. Disclosure to International or Foreign Agencies or Entities

A record in this system of records may be disclosed to a foreign government or international agency when necessary to facilitate the conduct of U.S. relations with that government or agency through the issuance of such documents as visas, country clearances, identification cards, drivers' licenses, diplomatic lists, licenses to import or export personal effects, and other official documents and permits routinely required in connection with the official service or travel abroad of the individual and her or his dependents.

15. Disclosure Under Foreign Assistance Act

A record in this system of records may be disclosed to Federal agencies with which the Agency has entered into an agreement to provide services to assist the Agency in carrying out its functions under the Foreign Assistance Act of 1961, as amended. Such disclosures would be for transmitting information between organizational units of the Agency, for providing to the original employing agency information concerning the services of its employee while under the supervision of the Agency, including performance evaluations, reports of conduct, awards and commendations, and information normally obtained in the course of personnel administration and employee supervision, or for providing other information directly related to the purpose of the inter-agency agreement as set forth therein, and necessary and relevant to its implementation.

16. Disclosure Pursuant to FOIA

A record in this system of records may be disclosed to the Department of Justice to determine whether disclosure thereof is required by the Freedom of Information Act (5 U.S.C. 552). A record in this system of records may be disclosed when the information is subject to exemption under the Freedom of Information Act (5 U.S.C. 552), but the Agency, in its discretion, determines not to assert the exemption.

17. Disclosure to State and Local Tax Authorities

A record from this system of records may be disclosed to state and local tax authorities with which the Secretary of the Treasury has entered into agreements and only to those state and local taxing authorities for which the employee is subject to tax (whether or not tax is withheld).

BBG-1

SYSTEM NAME:

Broadcasting Board of Governors Staff Files—BBG.

SYSTEM LOCATION:

Broadcasting Board of Governors (BBG), Rm. 3360, 330 Independence Ave., SW., Washington, DC 20237.

SECURITY CLASSIFICATION:

None.

CATEGORIES OF INDIVIDUALS COVERED BY THE SYSTEM:

Individuals who submit or receive official correspondence from the BBG or Board Staff.

CATEGORIES OF RECORDS IN THE SYSTEM:

Correspondence to and from the Board and Board Staff, BBG reports, Board biographical files, Broadcasting Entities (e.g., Voice of America (VOA), International Broadcasting Bureau (IBB), Office of Cuba Broadcasting (OCB), Radio Free Asia (RFA), and Radio Free Europe/Radio Liberty (RFE/RL)).

AUTHORITY FOR MAINTENANCE OF THE SYSTEM:

Federal Records Act of 1950, as amended; 44 U.S.C. 3101-3167; Records Disposal Act of 1943, as amended; 44 U.S.C. 3301-3314.

ROUTINE USES OF RECORDS MAINTAINED IN THE SYSTEM, INCLUDING CATEGORIES OF USERS AND THE PURPOSES OF SUCH USES:

To maintain a record of correspondence to and from the BBG Board, both with individuals and institutions outside the Agency and to the BBG Broadcasting entities, reports provided to Congress either by request or on an informational basis, and biographical information on Board members for BBG and public use. Records are used and accessed by Board members and Board staff. Also see Statement of General Routine Uses.

POLICIES AND PRACTICES FOR STORING, RETRIEVING, ACCESSING, RETAINING, and DISPOSING OF RECORDS IN THE SYSTEM:

STORAGE:

Information is retained in document form in file folders and in computers.

RETRIEVABILITY:

Manually retrieved by category and name.

SAFEGUARDS:

1. Authorized users: access to files is limited to only authorized BBG employees having a substantiated need for the information.

2. Physical safeguards: all files are protected by office personnel during regular duty hours and during non-duty hours by security doors that can only be accessed by BBG staff employees. Computer information is protected by the use of passwords restricted to authorized users. Files are contained in secure building that can be accessed only by persons showing proper identification credentials.

3. Procedural safeguards: access to records is limited to staff members on a need to know basis, to employees performing their official duties.

RETENTION AND DISPOSAL:

Records are maintained until no longer useful or relevant and then retired or destroyed in accordance with BBG policy and procedures.

SYSTEM MANAGER(S) AND ADDRESS:

BBG Executive Director, Broadcasting Board of Governors, Room 3360, 330 Independence Ave., SW, Washington, DC 20237.

NOTIFICATION PROCEDURES:

Individuals who want to know whether this system of records contains information about them, or who want access to their records, or who want to contest the contents of a record, should make a written request to: FOIA/Privacy Act Officer, Broadcasting Board of Governors (BBG), Suite 3349, 330 Independence Ave., SW, Washington, DC 20237. Individuals' requests should contain the name and address of the system manager (listed above) and the following information to enable their records to be located and identified:

A. Full legal name;

B. Date of Birth;

C. Social Security Number;

D. Last employing organization (include duty station location) and the approximate dates of employment or contact; and

E. Signature.

RECORD ACCESS PROCEDURES:

Individuals wishing to request access to their records should follow the Notification Procedures (listed above). Individuals requesting access will also be required to provide adequate identification, such as driver's license, employee identification card, and/or other identifying document. Additional identification procedures may be required in some instances. To request a file other than your own, you must have a notarized, signed statement giving you express permission to access the file from the individual to whom the file pertains.

CONTESTING RECORD PROCEDURES:

The BBG's rules for access and for contesting contents and appealing determinations by the individual concerned appear at 22 CFR Part 505. The right to contest records is limited to information that is incomplete, irrelevant, erroneous or untimely.

RECORD SOURCE CATEGORIES:

Biographical and ethics information furnished voluntarily by subject individuals, unsolicited correspondence, requests and inquiries from U.S. Government officials and members of the general public to the BBG and BBG staff.

EXEMPTIONS CLAIMED FOR THE SYSTEM:

None.

BBG-2

SYSTEM NAME:

Office of the General Counsel Litigation Files.

SYSTEM LOCATION:

Broadcasting Board of Governors, Office of the General Counsel, Suite 3349, 330 Independence Ave., SW, Washington, DC 20237.

SECURITY CLASSIFICATION:

Some documents within the system may be classified or confidential.

CATEGORIES OF INDIVIDUALS COVERED BY THE SYSTEM:

Individuals who have filed grievances, inquiries or discrimination complaints; employees separated or considered for separation for cause; officers selected out; individuals taking legal actions against the BBG or its employees; tort claimants and accident victims; employees and related persons for whom legislative action is sought; personal property loss claimants; employees and applicants raising legal or administrative issues concerning rights or benefits; individuals whose salaries have been garnished; individuals whose official personnel files have been subpoenaed in connection with divorce, custody or other litigation.

CATEGORIES OF RECORDS IN THE SYSTEM:

Investigatory reports; litigation reports; pre-hearing and pre-trial material; evidence for discovery and submission to hearing officers and courts; pleadings; briefs; transcripts; decisions and other related documents.

AUTHORITY FOR MAINTENANCE OF THE SYSTEM:

The Federal Records Act, as amended, 44 U.S.C. 3101.

ROUTINE USES OF RECORDS MAINTAINED IN THE SYSTEM, INCLUDING CATEGORIES OF USERS AND THE PURPOSES OF THE ROUTINE USES:

To represent the BBG in claims and other legal actions; to issue legal opinions or determinations regarding BBG action and perform all of the BBG's legal representation and advocacy functions.

Information is made available on a need-to-know basis to personnel of the BBG as may be required in the performance of their official duties. The principal users of this information outside of the BBG are the Department of Justice, Department of State, including Office of Inspector General, Office of Personnel Management, Foreign Service Grievance Board, and the Employee Management Relations Committee.

Records contained in these files may be released to agencies outside the BBG who have statutory, regulatory, or other lawful authority to collect, maintain or use such information. Also see Statement of General Routine Uses.

POLICIES AND PRACTICES FOR STORING, RETRIEVING, ACCESSING, RETAINING, AND DISPOSING OF RECORDS IN THE SYSTEM:

STORAGE:

Paper records in file folders, electronic data on computer storage media.

RETRIEVABILITY:

By the name of the individual and the nature of the legal action.

SAFEGUARDS:

Maintained in locked file cabinets and in offices in office suites to which only authorized BBG personnel have access. Computer files are maintained on networked BBG computers that are accessible only through the use of passwords.

RETENTION AND DISPOSAL:

Records may be retained until such time as they are no longer useful, current, or for a period of time until it can be assured that all legal proceedings and matters are final and concluded.

SYSTEM MANAGER(S) AND ADDRESS:

Office of the General Counsel, BBG, Suite 3349, 330 Independence Ave., SW, Washington, DC 20237.

NOTIFICATION PROCEDURES:

Individuals who want to know whether this system of records contains information about them, or who want access to their records, or who want to contest the contents of a record, should make a written request to: FOIA/Privacy Act Officer, BBG, Suite 3349, 330 Independence Ave., SW, Washington, DC 20237. Individuals' requests should contain the name and address of the system manager (listed above) and the following information to enable their records to be located and identified:

A. Full legal name;

B. Date of Birth;

C. Social Security Number;

D. Last employing organization (include duty station location) and the approximate dates of employment or contact; and

E. Signature.

RECORD ACCESS PROCEDURES:

Individuals wishing to request access to their records should follow the Notification Procedures (listed above). Individuals requesting access will also be required to provide adequate identification, such as driver's license, employee identification card, and/or other identifying document. Additional identification procedures may be required in some instances. A notarized signature is required if the request is made by written correspondence. To request a file other than your own, you must have a notarized, signed statement giving you express permission to access the file from the individual to whom the file pertains.

CONTESTING RECORD PROCEDURES:

The BBG's rules for access and for contesting the contents of records subject to the Privacy Act, and appealing determinations appear in 22 CFR Part 505. The right to contest records is limited to information that is incomplete, irrelevant, erroneous or untimely.

RECORD SOURCE CATEGORIES:

Information provided by the individual and/or their attorneys or representatives, and by employees of the BBG; information produced in the processing of a claim, grievance, legal action or issue.

EXEMPTIONS CLAIMED FOR THE SYSTEM:

Pursuant to 5 U.S.C. 552(a)(k)(2) and (k)(5), all investigatory material in the record which meets the criteria of these subsections is exempted from the notice, access and contest requirements (under 5 U.S.C. 552a(c)(3), (d)(e)(1), (e)(4)(G), (H) and (I) and (f) of the BBG regulations) in order for the BBG's legal staff to properly perform its functions. See also 22 CFR 505.15.

BBG-3

SYSTEM NAME:

Freedom of Information and Privacy Act Files—BBG/GC/FP.

SYSTEM LOCATION:

Freedom of Information Act (FOIA)/Privacy Act (PA) Officer, Office of the General Counsel, Broadcasting Board of Governors, 330 Independence Ave., SW., Suite 3349, Washington, DC 20237.

SECURITY CLASSIFICATION:

Some documents may be classified Confidential and Secret.

CATEGORIES OF INDIVIDUALS COVERED BY THE SYSTEM:

Individuals who have requested documents/records or other information maintained and in the possession of the BBG (pursuant to the Freedom of Information Act) or maintained by the BBG in a System of Records about themselves (pursuant to the Privacy Act of 1974).

CATEGORIES OF RECORDS IN THE SYSTEM:

Official, unofficial or personal information maintained and in possession of the BBG through reports, memoranda, correspondence, etc.

AUTHORITY FOR MAINTENANCE OF THE SYSTEM:

5 U.S.C. 552 (Freedom of Information Act) and 5 U.S.C. 552a (Privacy Act).

ROUTINE USES OF RECORDS MAINTAINED IN THE SYSTEM, INCLUDING CATEGORIES OF USERS AND THE PURPOSES OF SUCH USES:

For processing of requests received pursuant to the FOIA and the Privacy Act. Information is made available on a need to know basis to personnel of the BBG as may be required in the performance of their official duties.

Information in these records is not normally available to individuals or agencies outside the BBG, but records may be released to other government agencies who have statutory or other lawful authority to maintain or view such information.

Also see Statement of General Routine Uses.

POLICIES AND PRACTICES FOR STORING, RETRIEVING, RETAINING AND DISPOSING OF RECORDS IN THE SYSTEM:

STORAGE:

Paper records in file folders, and electronic storage on computers.

RETRIEVABILITY:

By name of individual or personal identifier.

SAFEGUARDS:

Records are maintained in secure office area with access only to BBG employees, and in bar locked cabinets and in combination locked storage. Computer and data base records are maintained on secure BBG computers with access only to authorized individuals with the appropriate password information.

RETENTION AND DISPOSAL:

Retired and destroyed in accordance with record disposition schedules for BBG.

SYSTEM MANAGER(S) AND ADDRESS:

FOIA/Privacy Act Officer, Office of the General Counsel, Broadcasting Board of Governors, 330 Independence Ave., SW., Suite 3349, Washington, DC 20237.

NOTIFICATION PROCEDURES:

Individuals who want to know whether this system of records contains information about them, or who want access to their records, or who want to contest the contents of a record, should make a written request to: FOIA/Privacy Act Officer, BBG, Suite 3349, 330 Independence Ave., SW., Washington, DC 20237. Individuals' requests should contain the name and address of the system manager (listed above) and the following information to enable their records to be located and identified:

A. Full legal name;

B. Date of Birth;

C. Social Security Number;

D. Last employing organization (include duty station location) and the approximate dates of employment or contract; and

E. Signature.

RECORD ACCESS PROCEDURES:

Individuals wishing to request access to their records should follow the Notification Procedures (listed above). Individuals requesting access will also be required to provide adequate identification, such as driver's license, employee identification card, and/or other identifying document. Additional identification procedures may be required in some instances. To request a file other than your own, you must have a notarized, signed statement giving you express permission to access the file from the individual to whom the file pertains.

CONTESTING RECORD PROCEDURE:

The BBG's rules for access and for contesting/amending record contents and appealing determinations appear in 22 CFR Part 505. The right to contest records is limited to information that is incomplete, irrelevant, erroneous or untimely.

RECORD SOURCE CATEGORIES:

Compiled as a result of requests under the Freedom of Information Act (FOIA) and the Privacy Act.

EXEMPTIONS CLAIMED FOR THE SYSTEM:

Certain records contained within the system of records may be exempted under 5 U.S.C. 552 (k)(1)-(2), (k)(4)-(6).

BBG-4

SYSTEM NAME:

Office of Legal Counsel Ethics Files (Financial Disclosure Reports).

SYSTEM LOCATION:

Office of the General Counsel, BBG, 330 Independence Ave., SW., Suite 3349, Washington, DC 20237.

SECURITY CLASSIFICATION:

None for the system. However, some documents within the system may be classified as confidential or otherwise protected or immunized from disclosure.

CATEGORIES OF INDIVIDUALS COVERED BY THE SYSTEM:

Experts or consultants, employees, paid at the Executive Schedule level; employees classified at GS-13, or the Foreign Service Equivalent, or higher, who are in positions of responsibility for a government decision or taking a government action with regard to: Contracting or procurement; administering or monitoring grants or subsidies; regulating or auditing private or other non-Federal enterprise; or required to report employment or financial interests in order to determine potential conflicts of interest or to ensure that BBG decision making is not performed by individuals with an ethical conflict.

CATEGORIES OF RECORDS IN THE SYSTEM:

Statements of personal and family financial and share holdings and other interests in business enterprises; copies of blind trusts and other agreements pertaining to such interests; correspondence regarding potential or actual conflicts of interest, or regarding investigation, insulation or control of individuals to prevent or eliminate potential conflicts of interest; opinions of counsel, including recommendations of waivers.

AUTHORITY FOR MAINTENANCE OF THE SYSTEM:

Executive Order 11222; 5 U.S.C. 7301; 18 U.S.C. 208; Ethics in Government Act of 1948, as amended.

ROUTINE USES OF RECORDS MAINTAINED IN THE SYSTEM, INCLUDING CATEGORIES OF USERS AND THE PURPOSES OF SUCH USES:

Review by the Ethics Officer and staff for possible conflicts of interest. Provide necessary reference information should allegations of conflicts arise. Also see Statement of General Routine Uses.

On a need-to-know basis, sharing of ethics information among BBG components or employees in their official capacities for the purpose of investigating or addressing allegations of conduct that is related to addressing ethics issues.

Information in Confidential Financial Disclosure Reports is not normally available to individuals or agencies outside of the BBG, but records may be released to other government agencies who have statutory or other lawful authority to maintain such information. Information in Public Financial Disclosure Reports is generally subject to public disclosure.

POLICIES AND PRACTICES FOR STORING, RETRIEVING, ACCESSING, RETAINING, AND DISPOSING OF RECORDS IN THE SYSTEM:

STORAGE:

Paper records in file folders and electronic data base and computer entries.

RETRIEVABILITY:

Alphabetically by name and by BBG element or geographic area.

SAFEGUARDS:

Maintained in secure office area with access only to BBG employees, and in bar locked cabinets and in combination locked storage. Computer and data base records are maintained on secure BBG computers with access only to authorized individuals with the appropriate password information.

RETENTION AND DISPOSAL:

Disposed of six years after employee leaves a position for which a report or ethics information is or has been required.

SYSTEM MANAGER AND ADDRESS:

Office of the General Counsel, Broadcasting Board of Governors (BBG), Suite 3349, 330 Independence Ave., SW., Washington, DC 20237.

NOTIFICATION PROCEDURES:

Individuals who want to know whether this system of records contains information about them, or who want access to their records, or who want to contest the contents of a record, should make a written request to: FOIA/Privacy Act Officer, BBG, Suite 3349, 330 Independence Ave., SW., Washington, DC 20237. Individuals' requests should contain the name and address of the system manager (listed above) and the following information to enable their records to be located and identified:

A. Full legal name;

B. Date of Birth;

C. Social Security Number;

D. Last employing organization (include duty station location) and the approximate dates of employment or contact; and

E. Signature.

RECORD ACCESS PROCEDURES:

Individuals wishing to request access to their records should follow the Notification Procedures (listed above). Individuals requesting access will also be required to provide adequate identification, such as driver's license, employee identification card, and/or other identifying document. Additional identification procedures may be required in some instances. A notarized signature is required if the request is made by written correspondence. To request a file other than your own, you must have a notarized, signed statement giving you express permission to access the file from the individual to whom the file pertains.

CONTESTING RECORD PROCEDURE:

The BBG's rules for access and for contesting/amending record contents and appealing determinations appear in 22 CFR Part 505. The right to contest records is limited to information that is incomplete, irrelevant, erroneous or untimely.

RECORD SOURCE CATEGORIES:

From the individual who filed the required ethics form or from any individual who provided information pursuant to a complaint or legal request for examination of ethics or conflict of interest issues.

EXEMPTIONS CLAIMED FROM THE SYSTEM:

Certain records contained within the system of records may be exempted from disclosure pursuant to 5 U.S.C. 552 (k)(1)-(2), (k)(4)-(6).

BBG-5

SYSTEM NAME:

IBB Director's Executive Secretariat Files.

SYSTEM LOCATION:

Director's Office, Executive Secretariat, International Broadcasting Bureau, Broadcasting Board of Governors, 330 Independence Ave., SW., Washington, DC 20237.

SECURITY CLASSIFICATION:

Some documents may be classified confidential or secret.

CATEGORIES OF INDIVIDUALS COVERED BY THE SYSTEM:

Members of the White House Staff, Members of Congress and their staffs, heads of other executive agencies of the Federal Government and members of the general public.

CATEGORIES OF RECORDS IN THE SYSTEM:

Correspondence addressed to the IBB Director, as well as the BBG, and copies of responses to requests for reports, information and/or assistance of various kinds prepared by the Director or designated representative.

AUTHORITY FOR MAINTENANCE OF THE SYSTEM:

Federal Records Act of 1950, as amended, 44 U.S.C. 3101-3167; Records Disposal Act of 1943, as amended, 44 U.S.C. 3301-3314.

ROUTINE USES OF RECORDS MAINTAINED IN THE SYSTEM, INCLUDING CATEGORIES OF USERS AND THE PURPOSES OF SUCH USES:

Reference files to provide oversight of the flow of requests of the Director for reports on programming effectiveness of BBG broadcasts; to provide information and/or assistance of various kinds; and to provide and monitor responses to such requests.

Information is made available on a need-to-know basis to personnel of the BBG as may be required in the performance of their official duties.

The information may also be released to other government agencies who have statutory or other lawful authority to maintain or use such information.

Also see Statement of General Routine Uses.

POLICIES AND PRACTICES FOR STORING, RETRIEVING, ACCESSING, RETAINING AND DISPOSING OF RECORDS IN THE SYSTEM:

STORAGE:

Records are stored on computer maintained by and located within the Secretariat, and maintained as paper records in file folders in the Secretariat.

RETRIEVABILITY:

Records are cross-indexed by individual name, organization, subject file and by computer reference number.

SAFEGUARDS:

Computer records are accessible only to authorized employees of the Director's staff with appropriate password information. Paper records are kept in locked file cabinets that are contained in a secure area. All records are contained in secure building that is accessible only to individuals with appropriate identification.

RETENTION AND DISPOSAL:

Records are maintained indefinitely.

SYSTEM MANAGER(S) AND ADDRESS:

Supervisory Staff Analyst, Executive Secretariat, BBG, 330 Independence Ave., SW., Washington, DC 20237.

NOTIFICATION PROCEDURES:

Individuals who want to know whether this system of records contains information about them, or who want access to their records, or who want to contest the contents of a record, should make a written request to: FOIA/Privacy Act Officer, BBG, Suite 3349, 330 Independence Ave., SW., Washington, DC 20237. Individuals' requests should contain the name and address of the system manager (listed above) and the following information to enable their records to be located and identified:

A. Full legal name;

B. Date of Birth;

C. Social Security Number;

D. Last employing organization (include duty station location) and the approximate dates of employment or contact; and

E. Signature.

RECORD ACCESS PROCEDURES:

Individuals wishing to request access to their records should follow the Notification Procedures (listed above). Individuals requesting access will also be required to provide adequate identification, such as driver's license, employee identification card, and/or other identifying document. Additional identification procedures may be required in some instances. A notarized signature is required if the request is made by written correspondence. To request a file other than your own, you must have a notarized, signed statement giving you express permission to access the file from the individual to whom the file pertains.

CONTESTING RECORD PROCEDURES:

The BBG's rules for access, contesting record contents and appealing determinations appear in 22 CFR Part 505. The right to contest records is limited to information that is incomplete, irrelevant, erroneous or untimely.

RECORD SOURCE CATEGORIES:

Unsolicited correspondence from U.S. Government Officials and members of the general public addressed to the Director concerning VOA, Worldnet, RFE/RL, RFA, or Office of Cuba Broadcasting.

EXEMPTIONS CLAIMED FOR THE SYSTEM:

Certain records contained in this system of records may be exempted from 5 U.S.C. 552(a)(k)(1)-(2), (k)(4)-(6); See 22 CFR 505.15.

BBG-6

SYSTEM NAME:

M/A—Office of Administration Travel Card Program Files.

SYSTEM LOCATION:

Office of Administration, Broadcasting Board of Governors, 330 Independence Ave., SW., Washington, DC 20237.

SECURITY CLASSIFICATION:

None.

CATEGORIES OF INDIVDUALS COVERED BY THE SYSTEM:

IBB/BBG employees.

CATEGORIES OF RECORDS IN THE SYSTEM:

Records and information pertaining to IBB/BBG employees who participate in the Government Travel Charge Card Program.

AUTHORITY FOR MAINTENANCE OF THE SYSTEM:

Travel and Transportation Reform Act of 1998, Public Law 105-264, dated October 19, 1998, 112 STAT. 2350; 5 U.S.C. 5707; 40 U.S.C. 486, Sec. 2.

ROUTINE USES OF RECORDS MAINTAINED IN THE SYSTEM, INCLUDING CATEGORIES OF USERS AND THE PURPOSES OF SUCH USES:

Used by the staff of the Office of Administration to prepare various reports. The information may be released to other government agencies that have Statutory or other lawful authority to maintain, examine or compile such information.

Also see Statement of General Routine Uses.

POLICIES AND PRACTICES FOR STORING, RETRIEVING, ACCESSING, RETAINING AND DISPOSING OF RECORDS IN THE SYSTEM:

STORAGE:

Paper records maintained in file folders and lists maintained in computers.

RETRIEVABILITY:

By name of employee.

SAFEGUARDS:

Paper records are maintained in file cabinets in office space that is restricted to authorized BBG employees. Computer records are maintained in systems accessible only by authorized users with appropriate password information. All records are contained in a secure building with access limited to individuals with appropriate identification.

RETENTION AND DISPOSAL:

To date, these records have no disposal authority.

SYSTEM MANAGER(S) AND ADDRESS:

Chief, Administrative Operations Division, IBB, Broadcasting Board of Governors, 330 Independence Ave., SW., Washington, DC 20237.

NOTIFICATION PROCEDURES:

Individuals who want to know whether this system of records contains information about them, or who want access to their records, or who want to contest the contents of a record, should make a written request to: FOIA/Privacy Act Officer, BBG, Suite 3349, 330 Independence Ave., SW., Washington, DC 20237. Individuals' requests should contain the name and address of the system manager (listed above) and the following information to enable their records to be located and identified:

A. Full legal name;

B. Date of Birth;

C. Social Security Number;

D. Last employing organization (include duty station location) and the approximate dates of employment or contact; and

E. Signature.

RECORD ACCESS PROCEDURES:

Individuals wishing to request access to their records should follow the Notification Procedures (listed above). Individuals requesting access will also be required to provide adequate identification, such as driver's license, employee identification card, and/or other identifying document. Additional identification procedures may be required in some instances. A notarized signature is required if the request is made by written correspondence. To request a file other than your own, you must have a notarized, signed statement giving you express permission to access the file from the individual to whom the file pertains.

CONTESTING RECORD PROCEDURES:

The BBG's rules for access and for contesting contents and appealing determinations by the individual concerned appear in 22 CFR Part 505. The right to contest records is limited to information that is incomplete, irrelevant, erroneous or untimely.

RECORD SOURCE CATEGORIES:

Information obtained from individuals in the context of applications for approval of travel credit card. Delinquent and Misuse report.

EXEMPTIONS CLAIMED FOR THE SYSTEM:

None.

BBG-7

SYSTEM NAME:

M/A—Office of Administration (Employee Parking).

SYSTEM LOCATION:

Office of Administration, International Broadcasting Bureau (IBB), Broadcasting Board of Governors (BBG), 330 Independence Ave., SW., Washington, DC 20237.

SECURITY CLASSIFICATION:

None.

CATEGORIES OF INDIVIDUALS COVERED BY THE SYSTEM:

IBB/BBG employees assigned to BBG controlled parking spaces; employees waiting for assignment of vacated parking spaces.

AUTHORITY FOR MAINTENANCE OF THE SYSTEM:

Regulations regarding the use of Federally-controlled parking spaces at 41 CFR Part 101.

ROUTINE USES OF RECORDS MAINTAINED IN THE SYSTEM, INCLUDING CATEGORIES OF USERS AND THE PURPOSES OF SUCH USES:

Assignment of parking space to BBG executives; to assure fairness in the assignment of parking spaces to employees and to give priority to certain individuals, e.g. the handicapped and individuals in car pools.

Information is made available to authorized BBG personnel as may be required in the performance of their official duties.

The information may also be released to other government agencies who have statutory or other lawful authority to maintain, examine or compile such information.

Also see Statement of General Routine Uses.

POLICIES AND PRACTICES FOR STORING, RETRIEVING, ACCESSING, RETAINING, AND DISPOSING OF RECORDS BY THE SYSTEM:

STORAGE:

Paper records maintained in file folders and lists maintained in computers.

RETRIEVABILITY:

By name of employee.

SAFEGUARDS:

Paper records are maintained in file cabinets in office space that is restricted to authorized BBG employees. Computer records are maintained in systems accessible only by authorized users with appropriate password information. All records are contained in a secure building with access limited to individuals with appropriate identification.

RETENTION AND DISPOSAL:

Records are destroyed within 18 months of time when employee relinquishes the assigned parking space or is separated from the BBG.

SYSTEM MANAGER(S) AND ADDRESS:

Director, Office of Administration, IBB, Broadcasting Board of Governors, 330 Independence Ave., SW., Washington, DC 20237.

NOTIFICATION PROCEDURES:

Individuals who want to know whether this system of records contains information about them, or who want access to their records, or who want to contest the contents of a record, should make a written request to: FOIA/Privacy Act Officer, BBG, Suite 3349, 330 Independence Ave., SW., Washington, DC 20237. Individuals' requests should contain the name and address of the system manager (listed above) and the following information to enable their records to be located and identified:

A. Full legal name;

B. Date of Birth;

C. Social Security Number;

D. Last employing organization (include duty station location) and the approximate dates of employment or contact; and

E. Signature.

RECORD ACCESS PROCEDURES:

Individuals wishing to request access to their records should follow the Notification Procedures (listed above). Individuals requesting access will also be required to provide adequate identification, such as driver's license, employee identification card, and/or other identifying document. Additional identification procedures may be required in some instances. A notarized signature is required if the request is made by written correspondence. To request a file other than your own, you must have a notarized, signed statement giving you express permission to access the file from the individual to whom the file pertains.

CONTESTING RECORD PROCEDURES:

The BBG's rules for access and for contesting contents and appealing determinations by the individual concerned appear in 22 CFR Part 505. The right to contest records is limited to information that is incomplete, irrelevant, erroneous, or untimely.

RECORD SOURCE CATEGORIES:

Information obtained from individuals in the context of application for and administration of BBG parking spaces, and responses generated to this information by various BBG personnel.

EXEMPTIONS CLAIMED FOR THE SYSTEM:

None.

BBG-8

SYSTEM NAME:

M/A—Office of Administration (Office Travel Records).

SYSTEM LOCATION:

Office of Administration, IBB, Broadcasting Board of Governors, 330 Independence Avenue, SW., Washington, DC 20237.

SECURITY CLASSIFICATION:

None.

CATEGORIES OF INDIVIDUALS COVERED BY THE SYSTEM:

Past and present BBG employees and private citizens who have traveled under BBG auspices or as a result of BBG travel orders.

CATEGORIES OF RECORDS IN THE SYSTEM:

Travel documents and correspondence relating to shipment and storage of personal effects and property; records of active passports and visa requests from foreign embassies; records of temporary duty travel.

AUTHORITY FOR MAINTENANCE OF THE SYSTEM:

Supplemental Appropriation Act of 1995, Public Law 663, section 1331 (31 U.S.C. 200); Section 367, the Revised Statutes, as amended; Anti-Deficiency Act (31 U.S.C. 665).

ROUTINE USES OF RECORDS MAINTAINED IN THE SYSTEM, INCLUDING CATEGORIES OF USERS AND THE PURPOSES OF SUCH USES:

Used by the staff of the Office of Administration to provide reimbursement for travel services provided to BBG travelers and the packing, storing, or shipment of their household effects and automobiles; to obtain passports and visas for BBG employees and other BBG travelers; and to prepare various reports on BBG travel activities. Also see Statement of General Routine Uses.

Information in these records is not normally available to individuals or agencies outside the BBG, but records may be released to other government agencies that have lawful authority to maintain, collect, view or compile such information.

POLICIES AND PRACTICES FOR STORING, RETRIEVING, ACCESSING, RETAINING, AND DISPOSING OF RECORDS BY THE SYSTEM:

STORAGE:

Paper records maintained in file folders in storage files, loose leaf binders, and cards. Electronic records maintained in computers.

RETRIEVABILITY:

Alphabetically by name.

SAFEGUARDS:

Passports and related material and all classified material are kept in bar-locked cabinets. Other records are kept in unlocked files that are under surveillance and supervision of authorized employees during the working day, and by security guards after official working hour. Computer records are maintained in areas controlled by authorized BBG employees and are accessible by authorized individuals using password information. All records are within a secure building that is accessible only to individuals with appropriate identification.

RETENTION AND DISPOSAL:

Temporary duty travel authorizations are maintained for four years and then sent to the Federal records center. Records of personal property are maintained for six years. Passport records are kept for ten years for employees and five years for non-employee travelers.

SYSTEM MANAGER(S) AND ADDRESS:

Chief, Administrative Operations Division, IBB, Broadcasting Board of Governors, 330 Independence Ave., SW., Washington, DC 20237.

NOTIFICATION PROCEDURES:

Individuals who want to know whether this system of records contains information about them, or who want access to their records, or who want to contest the contents of a record, should make a written request to: FOIA/Privacy Act Officer, BBG, Suite 3349, 330 Independence Ave., SW., Washington, DC 20237. Individuals' requests should contain the name and address of the system manager (listed above) and the following information to enable their records to be located and identified:

A. Full legal name;

B. Date of Birth;

C. Social Security Number;

D. Last employing organization (include duty station location) and the approximate dates of employment or contact; and

E. Signature.

RECORD ACCESS PROCEDURES:

Individuals wishing to request access to their records should follow the Notification Procedures (listed above). Individuals requesting access will also be required to provide adequate identification, such as driver's license, employee identification card, and/or other identifying document. Additional identification procedures may be required in some instances. A notarized signature is required if the request is made by written correspondence. To request a file other than your own, you must have a notarized, signed statement giving you express permission to access the file from the individual to whom the file pertains.

CONTESTING RECORD PROCEDURE:

The BBG's rules for access and for contesting record contents and appealing determinations appear in 22 CFR Part 505. The right to contest records is limited to information that is incomplete, irrelevant, erroneous or untimely.

RECORD SOURCE CATEGORIES:

Travel request forms initiated by various BBG components. Information regarding personal items obtained from the traveler and from transportation carriers. Passport information received from the Department of State's Passport Office.

EXEMPTIONS CLAIMED FOR THE SYSTEM:

None.

BBG-9

SYSTEM NAME:

M/CON—Office of Contracts (Vendor Data-Base File Extracts).

SYSTEM LOCATION:

Office of Contracts (M/CON), International Broadcasting Bureau (IBB), Broadcasting Board of Governors (BBG), 330 “C” Street, SW., Washington, DC 20237.

SECURITY CLASSIFICATION:

None.

CATEGORIES OF INDIVIDUALS COVERED BY THE SYSTEM:

Actual and prospective BBG contractors or grantees; individuals with whom the BBG contracts for talent, including Purchase Order Vendors (POV) and individuals retained for Expert Consultant Services.

CATEGORIES OF RECORDS IN THE SYSTEM:

Information on individuals as either past, current, or potential future vendor(s) to the BBG is contained in and can be extracted as electronic or paper records from M/CON's computer data base files. Such records may contain an individual's name, business/Internet address(s) and type, telephone/facsimile numbers, security clearances, college/higher education diplomas and degrees, specialized Government training, awards, and personal data from previous contracts, product/service code, and/or North America Industry and Classification System (NAICS) code.

AUTHORITY FOR MAINTENANCE OF THE SYSTEM:

Federal Acquisition Regulation (45 CFR 14.205-1(c) and 53.21(e)).

ROUTINE USES OF RECORDS MAINTAINED IN THE SYSTEM, INCLUDING CATEGORIES OF USERS AND THE PURPOSES OF SUCH USES:

To prepare BBG Solicitation Mailing Lists for competitive procurements; to determine potential contractor responsibility information such as financial status, annual billing amounts, technical experience, past performance, relevant experience, and other contractor qualification information. Information in the system of records is made available on a need to know basis to BBG personnel as required in the performance of their official duties. Information may be released to other Government agencies who have lawful authority to maintain, view or compile such information. The principal user of this information outside the BBG is the General Services Administration.

POLICIES AND PRACTICES FOR STORING, RETRIEVING, ACCESSING, RETAINING, AND DISPOSING OF RECORDS IN THE SYSTEM:

STORAGE:

Information is initially entered into M/CON's computer system from either Requisition or Contract forms or from the former Standard Form 129 (Solicitation Mailing List Application). Once the data is entered into the computer system, the SF-129 paper documents copies are then destroyed.

RETRIEVABILITY:

By the name of the individual.

SAFEGUARDS:

1. Authorized Users: Contracting personnel and other authorized BBG personnel.

2. Physical Safeguards: Access to computer records is limited via password only to authorized personnel; all records are contained within a secure building with access only to individuals with appropriate identification.

3. Procedural Safeguards: All authorized users of the information stored in these systems protect the information from public view and unauthorized personnel. Data stored in computers are accessed through the use of passwords available only to authorized personnel.

4. Implementation Guidelines: BBG Manual of Operations and Administration (MOA) III 500; Records Management Handbook (Domestic) Section 560-565.

RETENTION AND DISPOSAL:

A routine update of information is conducted approximately every five (5) years. Outdated information is disposed of internally.

SYSTEM MANAGER(S) AND ADDRESS:

Senior Procurement Executive, Office of Contracts (M/CON), International Broadcasting Bureau (IBB), Broadcasting Board of Governors (BBG), 330 “C” Street SW., Washington, DC 20237.

NOTIFICATION PROCEDURES:

Individuals who want to know whether this system of records contains information about them, or who want access to their records, or who want to contest the contents of a record, must submit a written request to: FOIA/Privacy Act Officer, BBG, 330 Independence Avenue SW., Washington, DC 20237. Individual requests shall contain the name and address of the System Manager (listed above) and the following information to enable their records to be located and identified:

A. Full legal name that would be the vendor name used in the contract;

B. Date of Birth;

C. Social Security Number;

D. Last employing organization (include duty station location) and the approximate dates of employment or contract; and

E. Signature.

RECORD ACCESS PROCEDURES:

Individuals wishing to request access to their records should follow the Notification Procedures (listed above). Individuals requesting access will also be required to provide adequate identification, such as driver's license, employee identification card, and/or other identifying document. Additional identification procedures may be required in some instances. To request a file other than your own, you must have a notarized, signed statement giving you express permission to access the file from the individual to whom the file pertains.

CONTESTING RECORD PROCEDURES:

The BBG's rules for access and for contesting record contents and appealing determinations appear in 22 CFR Part 505. The right to contest records is limited to information that is incomplete, irrelevant, erroneous or untimely.

RECORD SOURCE CATEGORIES:

Information is provided by individuals, companies, and other organizations.

EXEMPTIONS CLAIMED FOR THE SYSTEM:

None.

BBG-10

SYSTEM NAME:

M/CON—Office of Contracts (Acquisition and Procurement Workforce Information System).

SYSTEM LOCATION:

Office of Contracts (M/CON), International Broadcasting Bureau (IBB), Broadcasting Board of Governors (BBG), 330 “C” Street SW., Washington, DC 20237.

SECURITY CLASSIFICATION:

None.

CATEGORIES OF INDIVIDUALS COVERED BY THE SYSTEM:

BBG employees involved with acquisition and procurement activities, including but not limited to warranted Contracting Officers, Contracting Specialists, Purchasing Agents, Procurement Analysts, and Authorized Representatives of the Contracting Officer (AR/CO).

CATEGORIES OF RECORDS IN THE SYSTEM:

Records containing information regarding an individual's capacity or ability to serve or be involved with BBG procurement activities, including but not limited to Name, Office Symbol, Position Title, Series and Grade, Service Computation Date, Supervisory Designation, Functional Description of Present Position, Education, Training, Procurement Experience, Professional Organizations, Honors, Awards, Career Objectives.

AUTHORITY FOR MAINTENANCE OF THE SYSTEM:

Authority for this system is derived from the Federal Records Act, 44 U.S.C. 3101, and Federal Acquisition Regulation (FAR), Subpart 1-6 (Career Development, Contracting Authority, and Responsibilities).

ROUTINE USES OF RECORDS MAINTAINED IN THE SYSTEM, INCLUDING CATEGORIES OF USERS AND THE PURPOSES OF SUCH USES:

Identification of employees who have met standards of experience, education, and training for appointment as warranted Contracting Officers and Authorized Representatives of Contracting Officers (AR/CO). Additional purposes are to comply with applicable FAR requirements, and procurement education and training requirements of the Clinger-Cohen Act (Pub. L. 104-106) and the Office of Federal Procurement Policy (OFPP) Letters 92-03 and 97-01 pertaining to mandatory training requirements for the career development of Federal acquisition and procurement workforce personnel. Information is also used to analyze overall BBG procurement system performance regarding such areas as functional workforce structure and size, and system-wide and individual training needs. Information is available for performance of official duties. Information may be released to other Government agencies who have lawful authority to maintain, view or compile such information. Also, see Statement of General Routine Uses.

POLICIES AND PRACTICES AND STORING, RETRIEVING, ACCESSING, RETAINING, AND DISPOSING OF RECORDS IN THE SYSTEM:

STORAGE:

Information is maintained in paper form in files and in Office of Contracts computer storage.

RETRIEVABILITY:

Records are retrieved by BBG employee's name, office, job series and grade.

SAFEGUARDS:

1. Authorized Users: Office of Contracts personnel and BBG employees with express authorization.

2. Physical safeguards: Files are kept in binders and in desktop PCs in the Policy and Procedures Staff offices in the Office of Contracts. During non-duty hours the binders and PC is kept in a locked office. Computer records are maintained in office space that is controlled by BBG employees and in computers in which only authorized users may access via passwords. All records are contained within a secure building with access only to individuals with appropriate identification.

3. Procedural safeguards: All users of the personal information in connection with the performance of their official duties protect information from public view and from unauthorized personnel entering the office space where the records are kept. Access to records is strictly limited to Office of Contracts (M/CON) personnel.

4. Implementation guidelines: BBG Manual of Operations and Administration (MOA) III-500; Records Management Handbook (Domestic) Sections 560-565.

RETENTION AND DISPOSAL:

Files will be retained as long as the individual remains an employee of the BBG and is assigned to an Office of Contracts (M/CON) Headquarters or Field Procurement Activity procurement position (i.e., Contracting Officer, Purchasing Agent) or the employee is designated as an Authorized Representative of the Contracting Officer (AR/CO) for the term of the specific contract to which the AR/CO designation is applicable. Records will be destroyed within a reasonable time upon the employee's separation from the BBG, revocation or expiration of the employee's contracting warrant or AR/CO designation, or completion of the contract to which the AR/CO designation is applicable.

SYSTEM MANAGER(S) AND ADDRESS:

Senior Procurement Executive, Office of Contracts (M/CON), International Broadcasting Bureau (IBB), Broadcasting Board of Governors (BBG), 330 “C” Street SW., Washington, DC 20237.

NOTIFICATION PROCEDURES:

Individuals who want to know whether this system of records contains information about them, or who want access to their records, or who want to contest the contents of a record, must submit a written request to: FOIA/Privacy Act Officer, BBG, 330 Independence Avenue SW., Washington, DC 20237. Individual requests shall contain the name and address of the System Manager (listed above) and the following information to enable their records to be located and identified:

A. Full legal name that would be the vendor name used in the contract;

B. Date of Birth;

C. Social Security Number;

D. Last employing organization (include duty station location) and the approximate dates of employment or contract; and

E. Signature.

RECORD ACCESS PROCEDURES:

Individuals wishing to request access to their records should follow the Notification Procedures (listed above). Individuals requesting access will also be required to provide adequate identification, such as driver's license, employee identification card, and/or other identifying document. Additional identification procedures may be required in some instances. To request a file other than your own, you must have a notarized, signed statement giving you express permission to access the file from the individual to whom the file pertains.

CONTESTING RECORD PROCEDURES:

The BBG's rules for access and for contesting record contents and appealing determinations appear in 22 CFR Part 505. The right to contest records is limited to information that is incomplete, irrelevant, erroneous or untimely.

RECORD SOURCE CATEGORIES:

Information is provided by individuals, companies, and other organizations.

EXEMPTIONS CLAIMED FOR THE SYSTEM:

None.

BBG-11

SYSTEM NAME:

M/CON—Office of Contracts—(Suspension and Debarment Information System).

SYSTEM LOCATION:

Office of Contracts (M/CON), International Broadcasting Bureau (IBB), Broadcasting Board of Governors (BBG), 330 “C” Street SW., Washington, DC 20237.

SECURITY CLASSIFICATION:

Some documents may be classified at the “Confidential” level of security classification, and they may also be considered as “Procurement Sensitive” information.

CATEGORIES OF INDIVIDUALS COVERED BY THE SYSTEM:

Individuals who have been suspended, proposed for debarment, or debarred from Federal procurement, non-procurement, and assistance programs, and individuals who have been the subject of agency review, audit or inquiry to determine whether they should be debarred and/or suspended from Federal procurement/non-procurement and assistance programs.

CATEGORIES OF RECORDS IN THE SYSTEM:

Records include information on individuals and firms excluded, suspended, or considered for exclusion or suspension or other lawful disqualification from Federal acquisition (including procurement and non-procurement programs) or assistance programs as a result of suspension or debarment proceedings initiated by BBG or pursuant to information forwarded to or received by the BBG from another agency pursuant to lawful function or from the GSA's List of Parties Excluded from Federal Procurement or nonprocurement Programs. Such information includes, but is not limited to, names and addresses, and other identifying information such as Social Security numbers or taxpayer identification numbers, of individuals covered by the system of records. Such information also includes evidence obtained in support of: criminal, civil or administrative action and closure, interim decisions, compliance agreements, audits, and final determinations. Examples of evidence contained in files include correspondence, inspection reports, memoranda of interviews, contracts and cooperative and assistance agreements, judgment, plea and conviction documents, and corporate information. Computer generated records may include data regarding categories and status of cases.

AUTHORITY FOR MAINTENANCE OF THE SYSTEM:

Federal Property and Administrative Services Act of 1949, 41 U.S.C. 251 et seq., Office of Federal Procurement Policy Act., 41 U.S.C. 401 et seq.; Executive Order 12549 (Feb. 18, 1986) and Executive Order 12689 (Aug. 16, 1989); Federal Acquisition Regulation 9.404; and 22 CFR 513.500 and 513.505.

PURPOSE:

To assist the BBG in assembling information on, conducting, and documenting debarment and suspension proceedings to ensure that Federal contracts, cooperative agreements and Federal assistance, loans, and benefits are awarded to responsible business entities and individuals.

ROUTINE USES OF RECORDS MAINTAINED IN THE SYSTEM, INCLUDING CATEGORIES OF USERS AND THE PURPOSES OF SUCH USES:

Records may be disclosed to the General Services Administration (GSA) to compile and maintain the “List of Parties Excluded from Federal Procurement or Nonprocurement Programs” in accordance with FAR 9.404 and 22 CFR 513.500 and 513.505; to organizations or individuals suspended, proposed for debarment or debarred in BBG proceedings; to the legal representatives of such organizations; and to the legal representatives of individuals suspended, proposed for debarment or debarred in BBG proceedings; to a Federal, State or local agency, financial institution, or other entity to verify an individual's eligibility for engaging in a covered transaction, including covered, primary and lower-tier covered transactions as defined at 22 CFR 513.110; to Federal, State or local agencies, in response to requests or subpoenas, or for the purpose(s) of (a) assisting them in administering Federal acquisition, loan and benefit programs or regulatory programs or monies; (b) assisting them in discharging their duties to ensure that Federal contracts and assistance, loans, benefits programs and monies are awarded to responsible individuals and organizations; or (c) ensuring that Federal, State or local regulatory responsibilities are met; to the public, upon request, and to publishers of computerized legal research systems, but such disclosures shall be limited to interim or final decisions and settlement agreements. Also see Statement of General Routine Uses.

POLICIES AND PRACTICES AND STORING, RETRIEVING, ACCESSING, RETAINING, AND DISPOSING OF RECORDS IN THE SYSTEM:

STORAGE:

File-folders, computer data-bases and other electronic media.

RETRIEVABILITY:

By name of the individual or firm and by file number.

SAFEGUARDS:

Computer records are maintained in a secure, password protected computer system. Paper records are maintained by authorized individuals in locked file cabinets and in secure locked offices. All records are maintained in secure, access-controlled areas. All records are contained within a secure building with access only to individuals with appropriate identification.

RETENTION AND DISPOSAL:

Investigative and advocacy files are maintained until such time after all litigation or appeal ceases and no further activity is likely to occur. Audit files are retained throughout the term of any compliance agreement or settlement, or until such time as all litigation activity is final and ceases. The official administrative record is retained in the office until six months after the period of debarment or exclusion expires, or until all provisions of any compliance agreement or settlement agreement have been completely fulfilled. The official administrative record is then transferred to the Federal Records Center (FRC) for storage. Files relating to cases closed without action are also transferred to the FRC within one year after the decision to close the matter.

SYSTEM MANAGER(S) AND ADDRESS:

Senior Procurement Executive, Office of Contracts (M/CON), International Broadcasting Bureau (IBB), Broadcasting Board of Governors (BBG), 330 “C” Street SW., Washington, DC 20237.

NOTIFICATION PROCEDURES:

Individuals who want to know whether this system of records contains information about them, or who want access to their records, or who want to contest the contents of a record, must make a written request to: FOIA/Privacy Act Officer, BBG, 330 Independence Avenue, SW., Washington, DC 20237. Individuals' requests must contain the name and address of the system manager (listed above) and the following information to enable their records to be located and identified:

A. Full legal name;

B. Date of Birth;

C. Social Security Number;

D. Last employing organization (include duty station location) and the approximate dates of employment or contact; and

E. Signature.

RECORD ACCESS PROCEDURES:

Individuals wishing to request access to their records should follow the Notification Procedures (listed above). Individuals requesting access will also be required to provide adequate identification, such as driver's license, employee identification card, and/or other identifying document. Additional identification procedures may be required in some instances. To request a file other than your own, you must have a notarized, signed statement giving you express permission to access the file from the individual to whom the file pertains.

CONTESTING RECORD PROCEDURES:

The BBG's rules for access and for contesting record contents and appealing determinations appear at 22 CFR Part 505. The right to contest records is limited to information that is incomplete, irrelevant, erroneous or untimely.

RECORD SOURCE CATEGORIES:

BBG and other Federal officials, State and local government officials, private parties, business and other entities who may have information relevant to an inquiry, and individuals who have been suspended, proposed for debarment, or debarred, and their legal representatives.

EXEMPTIONS CLAIMED FOR THE SYSTEM:

Certain records contained within this system of records may be exempted by 5 U.S.C. 552(a)(k)(2); (k)(4); and (k)(5).

BBG—12

SYSTEM NAME:

M/P—Office of Personnel.

SYSTEM LOCATION:

Office of Personnel, International Broadcasting Bureau, Broadcasting Board of Governors, 330 Independence Avenue, SW., Washington, DC 20237.

SECURITY CLASSIFICATION:

Some documents are classified Confidential.

CATEGORIES OF INDIVIDUALS COVERED BY THE SYSTEM:

BBG employees and overseas American employees.

CATEGORIES OF RECORDS IN THE SYSTEM:

Records and information pertaining to the recruitment, testing and appointment of employees. Records include application forms; fiscal documents related to expenses; documents regarding post appointment; changes in employee skills, qualifications and experience; copies of SF-50 forms and payroll change slips.

AUTHORITY FOR MAINTENANCE OF THE SYSTEM:

Public Law 80-402, the United States Information and Exchange Act of 1948, as amended ( 22 U.S.C. 1431 et seq.); the U.S. International Broadcasting Act of 1994, as amended (22 U.S.C. 6201, et seq.); and the Foreign Affairs Consolidation Act of 1998 (Pub. L. 105-277).

ROUTINE USES OF RECORDS MAINTAINED IN THE SYSTEM, INCLUDING CATEGORIES OF USERS AND THE PURPOSES OF SUCH USES:

Official Personnel Files contains long-term records necessary or relevant to documenting employee status and service, as required by the United States Office of Personnel Management's (OPM's) instructions and designated in OPM's Guide to Personnel Record Keeping.

Information is made available as required by BBG personnel in performance of their official duties. The principal users of this information outside the BBG are personnel officers in other government agencies as a result of a transfer, detail or hiring processes relating to the individual to whom the records pertain, and investigators performing official functions. The information may also be released to other government agencies who have a statutory or other lawful authority to maintain such information.

Also see Statement of General Routine Uses.

POLICIES AND PRACTICES FOR STORING, RETRIEVING, ACCESSING, RETAINING AND DISPOSING OF RECORDS IN THE SYSTEM:

STORAGE:

Documents are maintained in Standard Form 66 for all Official Personnel Files (OPFs), additional information is contained in computer data base.

RETRIEVABILITY:

OPFs are manually retrieved by name.

SAFEGUARDS:

OPFs are maintained in a security approved locked storage room and in computers accessed by individuals only with appropriate password information.

Access to OPFs is limited to authorized BBG employees and other authorized individuals, such as security or EEO investigators, with a substantiated official need for access to the information to perform their duties. Computer files are maintained in secure office area with access to authorized individuals with appropriate password information. All files are stored in a secure building with access only to individuals with appropriate identification.

RETENTION AND DISPOSAL:

Files are maintained as long as employee remains at BBG. Records of former employees are transferred to their destination agency or to the Federal Records Center, as appropriate.

SYSTEM MANAGER(S) AND ADDRESS:

Chief, Operations and Benefits Division, Office of Personnel, Broadcasting Board of Governors, International Broadcasting Bureau, 330 Independence Ave., SW., Washington, DC 20237.

NOTIFICATION PROCEDURES:

Individuals who want to know whether this system of records contains information about them, or who want access to their records, or who want to contest the contents of a record, should make a written request to: FOIA/Privacy Act Officer, BBG, Suite 3349, 330 Independence Ave., SW., Washington, DC 20237. Individuals' requests should contain the name and address of the system manager (listed above) and the following information to enable their records to be located and identified:

A. Full legal name;

B. Date of Birth;

C. Social Security Number;

D. Last employing organization (include duty station location) and the approximate dates of employment or contact; and

E. Signature.

RECORD ACCESS PROCEDURES:

Individuals wishing to request access to their records should follow the Notification Procedures (listed above). Individuals requesting access will also be required to provide adequate identification, such as driver's license, employee identification card, and/or other identifying document. Additional identification procedures may be required in some instances. A notarized signature is required if the request is made by written correspondence. To request a file other than your own, you must have a notarized, signed statement giving you express permission to access the file from the individual to whom the file pertains.

CONTESTING RECORD PROCEDURES:

The BBG's rules for access, contesting record contents and appealing determinations appear at 22 CFR Part 505. The right to contest records is limited to information that is incomplete, irrelevant, erroneous or untimely.

RECORD SOURCE CATEGORIES:

Information is retrieved from employee application forms; from employees' supervisors (documentation relating to employees' experience, training, evaluation, performance, review, and recommendation for promotion, etc.; and from organizational personnel and fiscal elements (e.g. SF-50—Notification of Personnel Actions, payroll change slips, etc.).

EXEMPTIONS CLAIMED FOR THE SYSTEM:

Certain records contained within this system of records may be exempted by 5 U.S.C. 552(a)(k)(1); (k)(2); (k)(4); (k)(5); and (k)(6).

BBG-13

SYSTEM NAME:

M/PT—Office of Personnel (Training and Development Division).

SYSTEM LOCATION:

Training and Development Division, Office of Personnel, Broadcasting Board of Governors, International Broadcasting Bureau, 330 C St., SW., Washington, DC 20237.

SECURITY CLASSIFICATION:

None.

CATEGORIES OF INDIVIDUALS COVERED BY THE SYSTEM:

BBG employees receiving training.

CATEGORIES OF RECORDS IN THE SYSTEM:

Employee training applications, biographic data, educational background, training records, training program outlines, evaluations of training courses.

AUTHORITY FOR MAINTENANCE OF THE SYSTEM:

Public Law 80-402, the United States Information and Educational Exchange Act of 1948, as amended (22 U.S.C. 1431, et seq.); the U.S. International Broadcasting Act of 1994, as amended (22 U.S.C. 6201, et seq.); and the Foreign Affairs Consolidation Act of 1998 (Pub. L. 105-277).

ROUTINE USES OF RECORDS MAINTAINED IN THE SYSTEM, INCLUDING CATEGORIES OF USERS AND PURPOSES OF SUCH USES:

Background material used to determine eligibility for training; justification for training reports and record-keeping; evaluation and selection of lecturers and contractors to provide training; preparation of reports to Congress and other government agencies on training provided and training costs, as well as projected training needs and costs.

Information is made available on a need to know basis to personnel of the BBG as may be required in the performance of their official duties. The principal users of this information outside the BBG are personnel officers in other government agencies as a result of transfer, detail, or reassignment of the individual to whom the record pertains, other agencies considering employees for detail or transfer, and investigators performing their job functions.

The information may also be released to other government agencies who have statutory or other lawful authority to maintain such information. Also see Statement of General Routine Uses.

POLICIES AND PRACTICES FOR STORING, RETRIEVING, ACCESSING, RETAINING AND DISPOSING OF RECORDS IN THE SYSTEM:

STORAGE:

Paper records stored in file folders and file cabinets. Computer records stored on computer drives.

RETRIEVABILITY:

Manually retrieved by name, by computer generated lists of training statistics, or by training course title or description.

SAFEGUARDS:

Access to files is limited only to authorized BBG employees having an official use or need for the information. All files are maintained in locked offices during non-duty hours and are protected by office personnel when being used during duty hours. All files are contained within a secure building with access only to individuals with appropriate identification. All users of personal information in connection with the performance of their jobs protect information from public view and from unauthorized personnel entering an unsupervised office.

RETENTION AND DISPOSAL:

Training records maintained until employee is separated or until records are no longer needed. Budget records and cost statistics are kept for three to five years.

SYSTEM MANAGER(S) AND ADDRESS:

Chief, Training and Development Division, Office of Personnel, Broadcasting Board of Governors, International Broadcasting Bureau, 330 C St., SW., Washington, DC 20237.

NOTIFICATION PROCEDURES:

Individuals who want to know whether this system of records contains information about them, or who want access to their records, or who want to contest the contents of a record, should make a written request to: FOIA/Privacy Act Officer, BBG, Suite 3349, 330 Independence Ave., SW., Washington, DC 20237. Individuals' requests should contain the name and address of the system manager (listed above) and the following information to enable their records to be located and identified:

A. Full legal name;

B. Date of Birth;

C. Social Security Number;

D. Last employing organization (include duty station location) and the approximate dates of employment or contact; and

E. Signature.

RECORD ACCESS PROCEDURES:

Individuals wishing to request access to their records should follow the Notification Procedures (listed above). Individuals requesting access will also be required to provide adequate identification, such as driver's license, employee identification card, and/or other identifying document. Additional identification procedures may be required in some instances. A notarized signature is required if the request is made by written correspondence. To request a file other than your own, you must have a notarized, signed statement giving you express permission to access the file from the individual to whom the file pertains.

CONTESTING RECORD PROCEDURES:

The BBG's rules for access and for contesting record contents and appealing determinations appear in 22 CFR Part 505. The right to contest records is limited to information that is incomplete, irrelevant, erroneous or untimely.

RECORD SOURCE CATEGORIES:

The employee; training applications and records; training officers and other individuals involved in personnel management; supervisors; trainee evaluations.

EXEMPTIONS CLAIMED FOR THE SYSTEM:

Certain records contained within this system of records may be exempted by 5 U.S.C. 552(a)(k)(2); (k)(4); (k)(5); and (k)(6).

BBG-14

SYSTEM NAME:

M/SEC—Office of Security (Personnel Security and Integrity Records).

SYSTEM LOCATION:

Office of Security, Broadcasting Board of Governors, International Broadcasting Bureau, 330 C St., SW., Washington, DC 20237. Retired records stored at Washington National Records Center, 4205 Suitland Road, Suitland, MD 20409.

SECURITY CLASSIFICATION:

Most records are unclassified, but the system may include records that are confidential and secret.

CATEGORIES OF INDIVIDUALS COVERED BY THE SYSTEM:

All persons currently or formerly employed by BBG in the United States; all persons currently or formerly employed by BBG in other countries; some foreign nationals currently or formerly employed outside the United States; some contractors or individuals whose services are utilized by BBG; former applicants to BBG; some prospective spouses of BBG employees; persons who have significant relationship with persons whose services were utilized or considered for utilization by the BBG; some persons who were significantly involved in non-security related administrative inquiries conducted by the M/SEC; some persons of counterintelligence interest whose names appeared in the press or are contained in documents furnished by other agencies of the United States.

CATEGORIES OF RECORDS IN THE SYSTEM:

Application and security forms provided by subjects; reports of investigation and background check, including those conducted by the Office of Security and other Government agencies; Personnel Security Worksheet Records evaluating investigative material; security clearance and security approval forms; intra-office, intra-Agency and inter-agency correspondence relating to investigations; security and suitability determinations and administrative matters; correspondence to and from Federal and non-Federal law enforcement and counterintelligence agencies; correspondence to and from State and local law enforcement jurisdictions, credit bureaus, private employers, schools, businesses, and individuals relating to investigative inquiries; records regarding briefings, interviews and de-briefings; security certifications to other agencies, contact reports, and security violations; photographs and finger print cards; Cross Reference Sheets and Records of Release of Information; records from Security Identification Card System. Not all files contain all of the above-listed elements.

AUTHORITY FOR MAINTENANCE OF THE SYSTEM:

The authority of the Office of Security to collect and maintain security data is derived from the following: Executive Order 10450 of April 27, 1953, as amended; Executive Order 10865 of January 17, 1961, as amended; Executive Order 12968 of August 2, 1995; and Title 5 of the Code of Federal Regulations.

PURPOSE:

To collect, record and maintain information deemed necessary to make security and suitability determinations regarding applicants for employment with and employees of the IBB and BBG; to make security determinations regarding the advisability of employee assignments; to make security assessments regarding the advisability of contracts and other financial arrangements such as cooperative agreements, and positions with IBB and BBG; to make security determinations regarding the advisability of certain promotions, as required by regulation; to make determinations regarding employees' receipt of special clearances as required by regulation; to make determinations whether certain non-citizen employees of IBB or BBG abroad should be granted security approval; to disclose information to the Office of Inspector General, U.S. Attorneys' Offices, and other Federal, State and local law enforcement entities as necessary for these offices to carry out their investigative and law enforcement functions; to provide information to officials within IBB and BBG components and management elements as necessary to assist in the performance of their official duties.

ROUTINE USES OF RECORDS MAINTAINED IN THE SYSTEM, INCLUDING CATEGORIES OF USERS AND THE PURPOSES OF SUCH USES:

Data may be disclosed to Foreign Service Board of Examiners as necessary to determine qualifications and suitability of applicants; data may be disclosed to the Department of State as necessary to determine whether an applicant or employee should be granted or maintain medical clearance; data may be disclosed to other Government agencies as necessary for those agencies to determine whether employees should be granted special clearances required in connection with IBB or BBG duties; data may be disclosed in advising duly authorized security officers or other agencies of significant security information related to a BBG or IBB employee or applicant. Data may be disclosed to the Office of Personnel or to the Office of Personnel Management that significant security or suitability information was developed or obtained regarding an applicant or employee. IBB/BBG investigative material having counterintelligence or national security significance may be disclosed to other U.S. Government agencies with responsibilities in these areas. Records may be used by the Director of the Office of Security or his/her lawful agent in correspondence and contacts with officials of other Government agencies when, in the judgment of the Director, it becomes necessary to inform other Government agencies of information uncovered or available to the Office of Security.

POLICIES AND PRACTICES FOR STORING, RETRIEVING, ACCESSING, RETAINING, AND DISPOSING OF RECORDS IN THE SYSTEM:

STORAGE:

Paper records kept in file folders; computer data stored on computers and electronic media.

SAFEGUARDS:

Authorized Users: Employees of the Records Management Unit and employees of the Office of Security.

Physical Safeguards: Files and computers are maintained in a secure area which, during working hours, is staffed by authorized users. Room is locked and alarmed during non-duty hours. Files in possession of other authorized users are kept in approved safe or locked cabinets when not in use and during non-duty hours. Computer records are maintained on secure computers with strict password access. Entire building is secured during non-duty hours, with security guards on duty.

Procedural/Technical Safeguards: Records Management Unit personnel furnish files to other authorized users in exchange for properly executed “Chargeout Record” form. Record Management Unit is provided properly executed “Recharge” form if file is passed from one authorized user to another. All personnel having routine access to records have top secret security clearances.

Citation of Implementing Guidelines: Executive Order 12958, and the Privacy Act of 1974 (5 U.S.C. 552a).

RETENTION AND DISPOSAL:

Files pertaining to employees, contractors, and other whose relationship with IBB and BBG required a security clearance or certification may be transferred to the Washington National Records Center after the individual leaves the BBG or after the relationship with the BBG ceases. Records may be destroyed upon notification of death or not later than five years after separation or transfer of employee or termination of contract, whichever is applicable. Files pertaining to unsuccessful applicants may be transferred to Washington National Records Center 120 days after non-selection, and destroyed ten years after date of last action; index and cross-index cards may be destroyed as files are destroyed. All destruction of documents pursuant to appropriate security controls.

SYSTEM MANAGER(S) AND ADDRESS:

Director, Office of Security, BBG, 330 C Street, SW., Washington, DC 20237.

NOTIFICATION PROCEDURES:

Individuals who want to know whether this system of records contains information about them, or who want access to their records, or who want to contest the contents of a record, should make a written request to: FOIA/Privacy Act Officer, BBG, Suite 3349, 330 Independence Ave., SW., Washington, DC 20237. Individuals' requests should contain the name and address of the system manager (listed above) and the following information to enable their records to be located and identified:

A. Full legal name;

B. Date of Birth;

C. Social Security Number;

D. Last employing organization (include duty station location) and the approximate dates of employment or contact; and

E. Signature.

RECORD ACCESS PROCEDURES:

Individuals wishing to request access to their records should follow the Notification Procedures (listed above). Individuals requesting access will also be required to provide adequate identification, such as driver's license, employee identification card, and/or other identifying document. Additional identification procedures may be required in some instances. A notarized signature is required if the request is made by written correspondence. To request a file other than your own, you must have a notarized, signed statement giving you express permission to access the file from the individual to whom the file pertains.

CONTESTING RECORD PROCEDURES:

The BBG's rules for access and for contesting record contents and appealing determinations appear at 22 CFR Part 505. The right to contest records is limited to information that is incomplete, irrelevant, erroneous or untimely.

RECORD SOURCE CATEGORIES:

Biographic, personal history and other relevant information furnished by the subject individual on application and security forms or furnished by the subject during personal interviews or contained in reports of investigation conducted by the Office of Security, the Office of Personnel Management, Department of State, Office of Inspector General, Federal Bureau of Investigation, Department of Homeland Security and other Federal, State and local Government agencies or entities. Biographical, personal history and other relevant information obtained from credit bureaus, current and former employers, supervisors, co-workers, schools, teachers, rental and real estate agencies, landlords, neighbors, references, and acquaintances. Biographical, personal history and other relevant information, which may or may not be in the form of a photograph obtained from birth certificates, medical records and professional organization and society records. Counterintelligence and security reports that are furnished by other Federal agencies; various public records and indices such as those produced by Congressional committees, other elements and employees of BBG, employees of other Government agencies, non-government entities, and members of the public who may furnish information to the Office of Security in the interests of national security, the integrity or preservation of the federal service, good citizenship or desire to assist others, whistleblower activity, or concern regarding potentially unlawful, unethical, or improper activities.

EXEMPTIONS CLAIMED FOR THE SYSTEM:

5 U.S.C. 552a(k)(1), (k)(2), and (k)(5); 5 U.S.C. 552a(c)(3), 552a(d), 552a(e)(1), (e)(4)(H)-(I), and (f). See 22 CFR 505.15.

BBG-15

SYSTEM NAME:

OCB—Office of Cuba Broadcasting.

SYSTEM LOCATION:

Director's Office, Office of Cuba Broadcasting, Broadcasting Board of Governors, 4201 NW 77th Avenue, Miami, Florida 33166.

SECURITY CLASSIFICATION:

None.

CATEGORIES OF INDIVIDUALS COVERED BY THE SYSTEM:

Employees and interns.

CATEGORIES OF RECORDS IN THE SYSTEM:

Leave slips and statements, performance appraisals, position descriptions, manager's notes.

AUTHORITY FOR MAINTENANCE OF THE SYSTEM:

Federal Records Act of 1950, as amended, 44 U.S.C. 3101.

ROUTINE USES OF RECORDS MAINTAINED IN THE SYSTEM, INCLUDING CATEGORIES OF USERS AND THE PURPOSES OF SUCH USES:

To track employee information for use by managers.

STORAGE:

Stored in file folders and on computers.

RETRIEVABILITY:

Retrieved by name.

SAFEGUARDS:

In secure areas and cabinets that are only accessible by managers. Computer information is maintained on secure computers with access limited by password.

RETENTION AND DISPOSAL:

Maintained until employee is separated from the BBG. Records of former employees are transferred to their destination agency or to the Federal Records Center, as appropriate.

SYSTEM MANAGER(S) AND ADDRESSS:

Director's Office, Office of Cuba Broadcasting, Broadcasting Board of Governors, 4201 NW 77th Avenue, Miami, Florida 33166.

NOTIFICATION PROCEDURES:

Individuals who want to know whether this system of records contains information about them, or who want access to their records, or who want to contest the contents of a record, should make a written request to: FOIA/Privacy Act Officer, BBG, Suite 3349, 330 Independence Ave., SW., Washington, DC 20237. Individuals' requests should contain the name and address of the system manager (listed above) and the following information to enable their records to be located and identified:

A. Full legal name;

B. Date of Birth;

C. Social Security Number;

D. Last employing organization (include duty station location) and the approximate dates of employment or contact; and

E. Signature.

RECORD ACCESS PROCEDURES:

Individuals wishing to request access to their records should follow the Notification Procedures (listed above). Individuals requesting access will also be required to provide adequate identification, such as driver's license, employee identification card, and/or other identifying document. Additional identification procedures may be required in some instances. A notarized signature is required if the request is made by written correspondence. To request a file other than your own, you must have a notarized, signed statement giving you express permission to access the file from the individual to whom the file pertains.

CONTESTING RECORD PROCEDURES:

The BBG's rules for access and for contesting record contents and appealing determinations appear at 22 CFR Part 505. The right to contest records is limited to information that is incomplete, irrelevant, erroneous, or untimely.

RECORD SOURCE CATEGORIES:

Information is provided by individuals and managers.

EXEMPTIONS CLAIMED FOR THE SYSTEM:

None.

BBG-16

SYSTEM NAME:

Office of Civil Rights Complaint Files—OCR.

SYSTEM LOCATION:

Office of Civil Rights, Broadcasting Board of Governors, 301 4th Street, SW., Washington, DC 20237.

SECURITY CLASSIFICATION:

None.

CATEGORIES OF INDIVIDUALS COVERED BY THE SYSTEM:

Any employee with BBG who has a belief he/she has been discriminated against in some manner, or an individual who believes he/she has been retaliated against for a past filing of a discrimination complaint, and who has consulted with an Office of Civil Rights Counselor of the BBG or a member of OCR staff about the alleged discrimination.

AUTHORITY FOR MAINTENANCE OF THE SYSTEM:

42 U.S.C. 200e-16; 29 U.S.C. 633a; 29 U.S.C. 206(d).

ROUTINE USES OF RECORDS MAINTAINED IN THE SYSTEM, INCLUDING CATEGORIES OF USERS AND THE PURPOSES OF SUCH USES:

To record statements and actions taken regarding employees' and employment applicants' claims of discrimination. Principal users of this information outside the BBG are the Department of Justice, the Merit Systems Protection Board, and the Equal Employment Opportunity Commission. The information contained in this system may also be released to other government agencies having statutory or other lawful authority to maintain, compile, view or receive such information.

Information is made available on a need to know basis to BBG personnel as required for the performance of their official duties. Also see Statement of General Routine Uses.

POLICIES AND PRACTICES FOR STORING, RETRIEVING, ACCESSING, RETAINING, AND DISPOSING OF RECORDS IN THE SYSTEM:

STORAGE:

Partially automated system. Most information is stored in paper folders, with additional information stored on computers.

SAFEGUARDS:

Access is limited to OCR staff and contract EEO investigators. Records are stored in cabinets with bar locks and on computers protected with passwords known only to authorized OCR officials. Files are not removed from OCR offices, complainant and/or the complainant's representative are provided with copies of file materials, and copies may also be provided to other government agencies in accordance with the exercise of these agencies' statutory, regulatory or other official authorized functions.

SYSTEM MANAGER(S) AND ADDRESS:

Director, Office of Civil Rights, Broadcasting Board of Governors, 310 4th Street, SW., Washington, DC 20237.

NOTIFICATION PROCEDURES:

Individuals who want to know whether this system of records contains information about them, or who want access to their records, or who want to contest the contents of a record, should make a written request to: FOIA/Privacy Act Officer, BBG, Suite 3349, 330 Independence Ave., SW, Washington, DC 20237. Individuals' requests should contain the name and address of the system manager (listed above) and the following information to enable their records to be located and identified:

A. Full legal name;

B. Date of Birth;

C. Social Security Number;

D. Last employing organization (include duty station location) and the approximate dates of employment or contact; and

E. Signature.

RECORD ACCESS PROCEDURES:

Individuals wishing to request access to their records should follow the Notification Procedures (listed above). Individuals requesting access will also be required to provide adequate identification, such as driver's license, employee identification card, and/or other identifying document. Additional identification procedures may be required in some instances. A notarized signature is required if the request is made by written correspondence. To request a file other than your own, you must have a notarized, signed statement giving you express permission to access the file from the individual to whom the file pertains.

CONTESTING RECORD PROCEDURES:

The BBG's rules for access and for contesting record contents and appealing determinations appear at 22 CFR Part 505. The right to contest records is limited to information that is incomplete, irrelevant, erroneous, or untimely.

RECORD SOURCE CATEGORIES:

Personal interviews, affidavits, statements, BBG Personnel and Employment records, transcripts of hearings and litigation proceedings, correspondence.

EXEMPTIONS CLAIMED FOR THE SYSTEM:

None.

BBG—17

SYSTEM NAME:

OCR—Office of Civil Rights General Files (General Files).

SYSTEM LOCATION:

Office of Civil Rights, Broadcasting Board of governors (BBG), 301 4th St, SW., Washington, DC 20237

SECURITY CLASSIFICATION:

Some documents may be classified Confidential.

CATEGORIES OF INDIVIDUALS COVERED BY THE SYSTEM:

Employees of the BBG, applicants for positions in the BBG, organizations and institutes of higher education applying for grants from the BBG, recruitment contacts, prominent individuals who may be appropriate contacts for promotion panels, speakers, electronic media experts, and other individuals with whom the office is in contact, such as contractors and consultants.

CATEGORIES OF RECORDS IN THE SYSTEM:

Copies of applications, resumes, correspondence and bibliographical information regarding the individuals covered by the system, including memoranda to the files of employees covered by the system who seek counseling. General administrative files, including those dealing with travel, budget training and personnel matters. Various affirmative action plans, correspondence with BBG officials and others, such as correspondence with other agencies and individuals requesting information. Chron files and historical files outlining a variety of actions taken by the office and others in the area of EEO and Civil Rights. Computer generated lists of employees, and statistical studies of various parts of the BBG. Medical records of applicants and employees with disabling conditions and compliance records containing information about the EEO status of BBG grantee organizations and action taken on their applications.

AUTHORITY FOR MAINTENANCE OF THE SYSTEM:

29 CFR Parts 1613 et seq.

PURPOSE(S):

To enable the office to carry out activities designed to recruit, hire, train, promote, assign and otherwise provide equal employment opportunity to employees of and applicants for employment in the BBG Compliance Review files containing information about grant applicant's implementation of Titles VI, VII, and IX of the Civil Rights Act of 1964, as amended, the Rehabilitation Act of 1974, as amended, and the Age Discrimination in Employment Act, as amended; to enable the office to monitor and implement Federal regulations as stipulated in these statutes.

ROUTINE USES OF RECORDS MAINTAINED IN THE SYSTEM, INCLUDING CATEGORIES OF USERS AND THE PURPOSES OF SUCH USE:

Information in this system is made available on a need-to-know basis to Personnel Officers of the BBG as may be required in the performance of their duties. It may also be provided to Congressional Committees, individual Members of Congress, the White House, the Department of Justice, the Office of Personnel Management, the Equal Employment Opportunity Commission and to other government entities that have statutory or other lawful authority to maintain such information. Compliance Review information may also be released to grant applicants on request. Also see Statement of General Routine Uses.

POLICIES AND PRACTICES FOR STORING, RETRIEVING, ACCESSING, RETAINING, AND DISPOSING OF RECORDS IN THE SYSTEM:

STORAGE:

The system is partially automated. Some information is also maintained on discs, and some in paper folders.

RETRIEVABILITY:

Records are retrieved by name and types of activities, i.e., affirmative action plans, travel, training, etc.

SAFEGUARDS:

1. Authorized users: OCR staff members and contract EEO investigators who are authorized to have access to the system of records in the performance of their duties.

2. Physical safeguards: Bar-locked safes, files contained in secure building requiring appropriate identification to enter.

3. Procedural safeguards: Separate maintenance of tables linking codes, data encryption, security software providing restricted commands programs, employee training, procedures for recording and reporting security violations, computer log-on codes. Contract investigator has security clearance and is supervised by an OCR staff member.

4. Implementation guidelines: BBG Manual of Operations and Administration (MOA) V-A (Domestic) Section 560-565.

SYSTEM MANAGER(S) AND ADDRESS:

Director, Office of Civil Rights, Broadcasting Board of Governors (BBG), 301 4th Street, SW., Washington, DC 20237.

NOTIFICATION PROCEDURES:

Individuals who want to know whether this system of records contains information about them, or who want access to their records, or who want to contest the contents of a record, should make a written request to: FOIA/Privacy Act Officer, BBG, Suite 3349, 330 Independence Ave., SW., Washington, DC 20237. Individuals' requests should contain the name and address of the system manager (listed above) and the following information to enable their records to be located and identified:

A. Full legal name;

B. Date of Birth;

C. Social Security Number;

D. Last employing organization (include duty station location) and the approximate dates of employment or contact; and

E. Signature.

RECORD ACCESS PROCEDURES:

Individuals wishing to request access to their records should follow the Notification Procedures (listed above). Individuals requesting access will also be required to provide adequate identification, such as driver's license, employee identification card, and/or other identifying document. Additional identification procedures may be required in some instances. A notarized signature is required if the request is made by written correspondence. To request a file other than your own, you must have a notarized, signed statement giving you express permission to access the file from the individual to whom the file pertains.

CONTESTING RECORD PROCEDURES:

The BBG's rules for access and for contesting contents and appealing determinations by the individual concerned appear in 22 CFR Part 505. The right to contest records is limited to information that is incomplete, irrelevant, erroneous or untimely.

RECORD SOURCE CATEGORIES:

Correspondence, memos of conversations, BBG records of personnel actions, published biographical sources.

EXEMPTIONS CLAIMED FOR THIS SYSTEM:

None.

BBG—18

SYSTEM NAME:

OCR—Office of Civil Rights (Minority Groups).

SYSTEM LOCATION:

Office of Civil Rights, Broadcasting Board of Governors (BBG), 301 4th St, SW., Washington, DC 20237.

SECURITY CLASSIFICATION:

None.

CATEGORIES OF INDIVIDUALS COVERED BY THE SYSTEM:

All employees of BBG and some applicants for employment in BBG.

CATEGORIES OF RECORDS IN THE SYSTEM:

Records are categorized by name, race, sex, national origin, age, grade or wage level. Handicap or lack thereof and may contain medical records.

AUTHORITY FOR MAINTENANCE IN THE SYSTEM:

29 CFR 1613.301; 29 CFR 1613.302.

PURPOSE(S):

To compile statistical records of women, minorities, and individuals with disabling conditions who are considered for employment, hired, promoted, assigned, training, awarded, disciplined, and/or separated or who resign from the BBG, to measure EEO progress and to identify problems.

ROUTINE USES OF RECORDS MAINTAINED IN THE SYSTEM, INCLUDING CATEGORIES OF USERS AND THE PURPOSES OF SUCH USE:

Information is made available on a need-to-know basis to personnel of the BBG as may be required in the performance of their official duties, including implementing affirmative action plans and in processing complaints of discrimination. Information is not normally available to individuals or agencies outside the BBG, but records may be released to other government agencies having a statutory or other lawful authority to maintain such information. The principal users of this information outside of BBG are the Equal Employment Opportunity Commission, the Office of Personnel Management, the Department of Justice, the Department of State, and Congress. Also see Statement of General Routine Uses.

POLICIES AND PRACTICES FOR STORING, RETRIEVING, ACCESSING, RETAINING, AND DISPOSING OF RECORDS IN THE SYSTEM:

STORAGE:

Paper and computer records.

RETRIEVABILITY:

By name, race, sex, age, handicap, national origin, agency location, date of entry or separation, date of last promotion, grade or wage level.

SAFEGUARDS:

1. Authorized users: Members of the OCR staff and certain authorized members of the Office of Personnel, Policy and Services staff.

2. Physical safeguards: Bar-locked safes, security guard patrol (off-duty hours); access to building limited to individuals with appropriate identification.

3. Procedural safeguards: Computer passwords; Separate maintenance of tables linking codes, data encryption, security software providing restricted commands programs, employee training, procedures for recording and reporting security violations. Contractors are supervised by employees with a security clearance.

4. Implementation guidelines: BBG Manual of Operations and Administration (MOA) V-A (Domestic) Section 560-565. The source of security standards is 29 CFR 1613.301 et seq.

SYSTEM MANAGER(S) AND ADDRESS:

Director, Office of Civil Rights, Broadcasting Board of Governors (BBG), 301 4th Street, SW., Washington, DC 20237.

NOTIFICATION PROCEDURES:

Individuals who want to know whether this system of records contains information about them, or who want access to their records, or who want to contest the contents of a record, should make a written request to: FOIA/Privacy Act Officer, BBG, Suite 3349, 330 Independence Ave., SW., Washington, DC 20237. Individuals' requests should contain the name and address of the system manager (listed above) and the following information to enable their records to be located and identified:

A. Full legal name;

B. Date of Birth;

C. Social Security Number;

D. Last employing organization (include duty station location) and the approximate dates of employment or contact; and

E. Signature.

RECORD ACCESS PROCEDURES:

Individuals wishing to request access to their records should follow the Notification Procedures (listed above). Individuals requesting access will also be required to provide adequate identification, such as driver's license, employee identification card, and/or other identifying document. Additional identification procedures may be required in some instances. A notarized signature is required if the request is made by written correspondence. To request a file other than your own, you must have a notarized, signed statement giving you express permission to access the file from the individual to whom the file pertains.

CONTESTING RECORD PROCEDURES:

The BBG's rules for access and for contesting contents and appealing determinations by the individual concerned appear in 22 CFR Part 505. The right to contest records is limited to information that is incomplete, irrelevant, erroneous or untimely.

RECORD SOURCE CATEGORIES:

From the employee or applicant concerned, BBG personnel data, visual inspection of the employee or application.

EXEMPTIONS CLAIMED FOR THE SYSTEM:

Not applicable.

BBG-19

SYSTEM NAME:

P/K—Office of External Affairs (Clearance Files for Speaking, Teaching and Writing, and Approval Files for Outside Employment).

SYSTEM LOCATION:

Broadcasting Board of Governors (BBG), International Broadcasting Bureau (IBB), Office of External Affairs, Room 3131, 330 Independence Ave, SW., Washington, DC 20237.

SECURITY CLASSIFICATION:

None.

CATEGORIES OF INDIVIDUALS COVERED BY THE SYSTEM:

Employees of the IBB, the Voice of America, the Office of Cuba Broadcasting (Radio and Television Marti), WORLDNET Television, Office of engineering and Technical Operations.

CATEGORIES OF RECORDS IN THE SYSTEM:

Correspondence addressed to the Director of the Office of External Affairs requesting clearance for outside speaking, teaching, or writing, or requesting approval for outside employment. Correspondence from office, language service, and division directors to the Director of the Office of External Affairs regarding employees' requests for clearance or approval. Correspondence from the Office of External Affairs to and from the BBG Office of the General Counsel and Ethics Officer. Responses to IBB and BBG employees on clearance or approval from the Director of the Office of External Affairs.

AUTHORITY FOR MAINTENANCE OF SYSTEM:

Federal Records Act of 1950, as amended, 44 U.S.C. 3101-3167, Records Disposal Act of 1943, as amended, 44 U.S.C. 3301-3314.

ROUTINE USES OF RECORDS MAINTAINED IN THE SYSTEM, INCLUDING CATEGORIES OF USERS AND THE PURPOSES OF SUCH USES:

Files are routinely used by the Director of the Office of External Affairs or his/her delegate to determine record of current or previous requests for clearance and/or approval and the disposition of those requests. Files may be used by representatives of the Labor Relations offices in the course of investigations. Also see General Routine Uses.

POLICIES AND PRACTICES FOR STORING, RETRIEVING, ACCESSING, RETAINING, AND DISPOSING OF RECORDS IN THE SYSTEM:

STORAGE:

Paper and computer records are stored in a locked office within the Office of External Affairs.

RETRIEVABILITY:

Records are kept in hard copy or computer chronologically by year of the request. A small number of files are kept by individual identifier.

SAFEGUARDS:

General access to files is permitted only to administrative staffs and other top management officials having a need-to-know such information in the normal performance of their duties. Computer records are protected by password access for authorized users. All records are located within secure building with access restricted to individuals showing appropriate identification.

RETENTION AND DISPOSAL:

Files are retained in the Office of External Affairs, and are used periodically for reference purposes.

SYSTEM MANAGER(S) AND ADDRESS:

Director of External Affairs, International Broadcasting Bureau (IBB), Broadcasting Board of Governors, 330 Independence Ave., SW., Washington, DC 20237.

NOTIFICATION PROCEDURES:

Individuals who want to know whether this system of records contains information about them, or who want access to their records, or who want to contest the contents of a record, should make a written request to: FOIA/Privacy Act Officer, BBG, Suite 3349, 330 Independence Ave., SW., Washington, DC 20237. Individuals' requests should contain the name and address of the system manager (listed above) and the following information to enable their records to be located and identified:

A. Full legal name;

B. Date of Birth;

C. Social Security Number;

D. Last employing organization (include duty station location) and the approximate dates of employment or contact; and

E. Signature.

RECORDS ACCESS PROCEDURE:

Requests from individuals should be addressed to the FOIA/Privacy Act Officer, Office of the General Counsel, 330 Independence Ave, SW., Suite 3349, Washington, DC 20237.

CONTESTING RECORDS PROCEDURES:

The rules for access and for contesting contents and appealing determinations by the individual concerning appeal are found in CFR Part 505. The right to contest records is limited to information that is incomplete, irrelevant, erroneous or untimely.

RECORD SOURCE CATEGORIES:

Information is received from employees seeking advance clearance for outside speaking, teaching or writing on matters of official concern, or approval for outside employment; from supervisors of such employees; from the Office of the General Counsel; from the IBB Designated Ethics Officer, and from the Director of the Office of External Affairs in making the determination on requests for clearance and/or approval.

EXEMPTIONS CLAIMED FOR THE SYSTEM:

None.

[FR Doc. 04-17554 Filed 8-2-04; 8:45 am]

BILLING CODE 8230-01-P